DEPARTMENT OF COMMERCE

National Oceanic and Atmospheric Administration

50 CFR Parts 223 and 224

RIN 0648-XF03

Listing Endangered and Threatened Wildlife and Designating Critical Habitat; 90-day Finding for a Petition to Reclassify the Loggerhead Turtle in the Western North Atlantic Ocean

AGENCY: National Marine Fisheries Service (NMFS), National Oceanic and Atmospheric Administration (NOAA), Commerce.

ACTION: 90-day petition finding; request for information and comments; correction.

SUMMARY: This document corrects the fax number in the ADDRESSES section of a proposed rule published in the Federal Register of March 5, 2008.

FOR FURTHER INFORMATION CONTACT: Marta Nammack at 301-713-1401.

SUPPLEMENTARY INFORMATION:

Correction

In proposed rule FR Doc. E8-4231, beginning on page 11849 in the issue of March 5, 2008, make the following correction, in the Preamble. On page 11849, column two, line 8 of the ADDRESSES section, replace “978-281-9394” with “301-713-0376”.

Dated: March 6, 2008.
John Oliver,
Deputy Assistant Administrator for Operations, National Marine Fisheries Service.

[FR Doc. 08-1000 Filed 3-6-08; 2:54 pm]

BILLING CODE 3510-22-S